DEPARTMENT OF COMMERCE

National Oceanic and Atmospheric Administration

RIN 0648-XY25

Fisheries of the South Atlantic; Southeast Data, Assessment, and Review (SEDAR); Public Meeting

AGENCY: National Marine Fisheries Service (NMFS), National Oceanic and Atmospheric Administration (NOAA), Commerce.

ACTION: Notice of SEDAR 2 Update Assessment data conference call for South Atlantic Black Sea Bass.

SUMMARY: The SEDAR Update Assessment of the South Atlantic stock of black sea bass will consist of a conference call and four webinars. This is an Update of the second SEDAR stock assessment, completed in 2003. This is notice of the conference call component of the SEDAR 2 Update. See SUPPLEMENTARY INFORMATION.

DATES: The conference call will take place September 7, 2010. See SUPPLEMENTARY INFORMATION.

ADDRESSES: The conference call may be attended by the public. Those interested in participating should contact Kari Fenske at SEDAR. See FOR FURTHER INFORMATION CONTACT to request conference call access information.

FOR FURTHER INFORMATION CONTACT: Kari Fenske, SEDAR Coordinator, 4055 Faber Place Drive, Suite 201, North Charleston, SC 29405; telephone: (843) 571-4366; e-mail: kari.fenske@safmc.net.

SUPPLEMENTARY INFORMATION: The Gulf of Mexico, South Atlantic, and Caribbean Fishery Management Councils, in conjunction with NOAA Fisheries and the Atlantic and Gulf States Marine Fisheries Commissions have implemented the Southeast Data, Assessment and Review (SEDAR) process, a multi-step method for determining the status of fish stocks in the Southeast Region. SEDAR Updates include a discussion of data, a Stock Assessment Process and a Review by the South Atlantic Science and Statistical Committee. The product of the Update Process is a stock assessment report which describes the fisheries, evaluates the status of the stock, estimates biological benchmarks, projects future population conditions, and recommends research and monitoring needs. Participants for SEDAR Workshops and Assessment Process are appointed by the Gulf of Mexico, South Atlantic, and Caribbean Fishery Management Councils; the Atlantic and Gulf States Marine Fisheries Commissions; and NOAA Fisheries Southeast Regional Office and Southeast Fisheries Science Center. Participants include data collectors and database managers; stock assessment scientists, biologists, and researchers; constituency representatives including fishermen, environmentalists, and NGO's; International experts; and staff of Councils, Commissions, and state and federal agencies.

SEDAR 2 Update conference call schedule:

September 7, 2010: 1 p.m.—4 p.m.

Assessment panelists will discuss data inputs to the stock assessment model and make recommendations for additional years of data to be updated in the model. New information on black sea bass life history may be considered and recommended for use in the update.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to the Council office (see ADDRESSES) at least 3 business days prior to each workshop.

Dated: August 16, 2010.
William D. Chappell,
Acting Director, Office of Sustainable Fisheries, National Marine Fisheries Service.

[FR Doc. 2010-20546 Filed 8-18-10; 8:45 am]

BILLING CODE 3510-22-S